DEPARTMENT OF THE INTERIOR

Bureau of Land Management

[LLCAC06000.L13100000.DS0000.LXSIAREV0000.19XL1109AF.MO#4500131458]

Notice of Availability of the Bakersfield Field Office Hydraulic Fracturing Draft Supplemental Environmental Impact Statement, California

AGENCY: Bureau of Land Management, Interior.

ACTION: Notice of availability.

SUMMARY: In accordance with the National Environmental Policy Act of 1969, as amended, the Bureau of Land Management (BLM) has prepared a Draft Supplemental Environmental Impact Statement (EIS), analyzing the potential impacts of hydraulic fracturing on oil and gas leases within the Bakersfield Field Office planning area, and by this notice the BLM is announcing the opening of the 45-day public comment period.

DATES: To ensure consideration, the BLM must receive written comments on the Bakersfield Field Office Hydraulic Fracturing Draft Supplemental EIS within 45 days following the date the Environmental Protection Agency publishes its Notice of Availability in the Federal Register. The BLM will announce future meetings or hearings and any other public involvement activities at least 15 days in advance through public notices, media releases, and/or mailings.

ADDRESSES: You may submit written comments related to the Bakersfield Field Office Hydraulic Fracturing Draft Supplemental EIS by any of the following methods:

• Website: https://go.usa.gov/xE3Nw

• Mail: Bureau of Land Management, Bakersfield Field Office, Attn: Bakersfield Hydraulic Fracturing Analysis, 3801 Pegasus Drive, Bakersfield, CA 93308

Copies of the Bakersfield Field Office Hydraulic Fracturing Draft Supplemental EIS are available during regular business hours in the Bakersfield Field Office.

FOR FURTHER INFORMATION CONTACT: Carly Summers, Supervisory Natural Resources Specialist, telephone: 661-391-6000, email: csummers@blm.gov. Persons who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION: The Bakersfield Field Office planning area includes Fresno, Kern, Kings, Madera, San Luis Obispo, Santa Barbara, Tulare, and Ventura counties in California and encompasses approximately 400,000 acres of public land and 1.2 million acres of Federal mineral estate.

The supplemental environmental analysis is being conducted in response to a May 2017, U.S. District Court Order.

The BLM presented preliminary resource issues for public scoping review and comment in the August 8, 2018, Federal Register Notice of Intent (83 FR 39116). Issues identified by BLM personnel; Federal, State, and local agencies; and other stakeholders and analyzed in the Draft Supplemental EIS include: Air and atmospheric values; water quality and quantity; seismicity; special status species; and mineral resources (oil and gas). The U.S. District Court Order upheld the range of alternatives analyzed in the Proposed RMP/Final EIS. The five management alternatives as analyzed in the Proposed RMP/Final EIS were:

• The No Action alternative (Alternative A) would continue current management under the existing 1997 Caliente RMP and 1984 Hollister RMP, as amended.

• The Proposed Plan (Alternative B) strives to balance resource conservation and ecosystem health with the production of commodities and public use of the land.

• Alternative C emphasizes conserving cultural and natural resources, maintaining functioning natural systems, and restoring natural systems that are degraded.

• Alternative D follows Alternative C in all aspects except with regard to livestock grazing. Alternative D would eliminate livestock grazing from the BLM-managed lands in the planning area for the life of this land use plan.

• Alternative E emphasizes the production of natural resources and commodities while emphasizing public use opportunities.

The results of this draft supplemental analysis analyzing the impacts of hydraulic fracturing, additive to those identified in the 2012 Final EIS, did not show notable increase in total impacts. No conflicts were found between the estimated impacts of hydraulic fracturing and the resource or program management goals and objectives stated in the RMP. The range of alternatives has not changed between the approved 2014 RMP and its 2012 Final EIS and the Draft Supplemental EIS. Therefore, no amendment to the 2014 RMP is necessary.

You may submit comments on the Draft Supplemental EIS in writing to the BLM using one of the methods listed earlier in the ADDRESSES section. To be most helpful, you should submit comments by the close of the 45-day comment period.

The BLM will utilize and coordinate the NEPA process to help fulfill the public involvement process under the National Historic Preservation Act (54 U.S.C. 306108), as provided in 36 CFR 800.2(d)(3). The BLM will continue to consult with Indian tribes on a government-to-government basis, in accordance with Executive Order 13175 and other policies. Tribal concerns, including impacts on Indian trust assets and potential impacts to cultural resources, will continue to be given due consideration. Federal, State, and local agencies, along with tribes and other stakeholders that may be interested in or affected by the proposed action that the BLM is evaluating, are invited to participate in the comment period.

Please note that public comments and information submitted, including names, street addresses, and email addresses of persons who submit comments, will be available for public review and disclosure at the address listed earlier during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Joe Stout,
Acting State Director, California.

[FR Doc. 2019-08282 Filed 4-25-19; 8:45 am]

BILLING CODE 4310-40-P